DEPARTMENT OF COMMERCE

National Institute of Standards and Technology

Announcement of the American Petroleum Institute's Standards Activities

AGENCY: National Institute of Standards and Technology, Commerce.

ACTION: Notice of intent to develop or revise standards and request for public comment and participation in standards development.

SUMMARY: The American Petroleum Institute (API), with the assistance of other interested parties, continues to develop standards, both national and international, in several areas. This notice lists the standardization efforts currently being conducted by API committees. The publication of this notice by the National Institute of Standards and Technology (NIST) on behalf of API is being undertaken as a public service. NIST does not necessarily endorse, approve, or recommend the standards referenced.

ADDRESSES: American Petroleum Institute, 1220 L Street, NW., Washington, DC 20005; telephone (202) 682-8000, http://www.api.org.

FOR FURTHER INFORMATION CONTACT: All contact individuals listed in the supplementary information section of this notice may be reached at the American Petroleum Institute.

SUPPLEMENTARY INFORMATION:

Background

The American Petroleum Institute develops and publishes voluntary standards for equipment, materials, operations, and processes for the petroleum and natural gas industry. These standards are used by both private industry and by governmental agencies. All interested persons should contact the appropriate source as listed for further information.

Exploration & Production:

RP 10B-6, Recommended Practice on Determining the Static Gel Strength of Cement Formulations, 1st Ed.

RP 13D, Rheology and Hydraulics of Oil-well Drilling Fluids, 6th Ed.

RP 17A-A, Addendum to Design and Operation of Subsea Production Systems—Petroleum and natural gas industries-Design and operation of subsea production systems-Part 1: General requirements and recommendations, 4th Ed.

RP 17Q, Recommended Practice for Subsea Qualification, 1st Ed.

RP 19G4, Practices for Side-pocket Mandrels and Related Equipment, 1st Ed.

RP 19G9, Design, Operation, and Troubleshooting of Dual Gas-lift Wells, 1st Ed.

RP 2EQ, Seismic Design Procedures and Criteria for Offshore Structures, 1st Ed.

RP 2MOP, Marine Operations, 1st Ed.

RP 2T, Planning, Designing and Constructing Tension Leg Platforms, 3rd Ed.

RP 5LT, Recommended Practice for Truck Transportation of Line Pipe, 1st Ed.

Spec 10A, Specification for Cements and Materials for Well Cementing, 24th Ed.

Spec 11B, Specification for Sucker Rods, 27th. Ed.

Spec 13A, Specification for Drilling Fluid Materials, 18th Ed.

Spec 17D, Subsea Wellhead and Christmas Tree Equipment, 2nd Ed.

Spec 17E, Specification for Subsea Umbilicals, 4th Ed.

Spec 19G1, Side-pocket Mandrels, 1st Ed.

Spec 19G2, Flow-control Devices for Side-pocket Mandrels, 1st Ed.

Spec 2SF, Manufacture of Structural Steel Forgings for Primary Offshore Applications, 1st Ed.

Spec 5CRA, Specification for Corrosion Resistant Alloy Seamless Tubes for Use as Casing, Tubing and Coupling Stock, 1st Ed.

Spec 5CT, Specification for Casing and Tubing—Petroleum and natural gas industries—Steel pipes for use as casing or tubing for wells, 9th Ed.

Spec 5ST, Specification for Coiled Tubing, 1st Ed.

Spec 6A, Specification for Wellhead and Christmas Tree Equipment, 20th Ed.

Spec 7K, Drilling and Well Servicing Equipment, 5th Ed.

Spec 8C-A3, Addendum 3 to Specification for Drilling and Production Hoisting Equipment (PSL 1 and PSL 2)—(Modified), Petroleum and natural gas industries—Drilling and production equipment-Hoisting equipment, 4th Ed.

Spec Q1-A1, Addendum 1 to Specification for Quality Programs for the Petroleum and Natural Gas Industry, 8th Ed.

FOR FURTHER INFORMATION CONTACT: Roland Goodman, Standards Department, e-mail: (goodmanr@api.org).

Meetings/Conferences: The Exploration & Production Standards Conference will be held in Washington, DC, June 28-July 2, 2010. Interested parties may visit the API Web site at http://www.api.org/meetings/ for more information regarding participation in these meetings.

Marketing:

RP 1615, Installation of Underground Petroleum Storage Systems, 6th Ed.

RP 1626, Storing and Handling Ethanol and Gasoline-Ethanol Blends at Distribution Terminals and Service Stations, 2nd Ed.

RP 2611, Terminal Piping Inspection, 1st Ed.

FOR FURTHER INFORMATION CONTACT: Steve Crimaudo, Standards Department, e-mail: (crimaudos@api.org).

Petroleum Measurement:

MPMS Ch. 12.1.1, Calculation of Static Petroleum Quantities, Part 1—Upright Cylindrical Tanks and Marine Vessels, 3rd Ed.

MPMS Ch. 12.1.2, Calculation of Static Petroleum Quantities, Part 2—Calculation Procedures for Tank Cars, 2nd Ed.

MPMS Ch. 13.3, Measurement Uncertainty, 1st Ed.

MPMS Ch. 14.1, Collecting and Handling of Natural Gas Samples for Custody Transfer, 7th Ed.

MPMS Ch. 19.1, Evaporative Loss From Fixed-roof Tanks (Previously Publication 2518), 4th Ed.

MPMS Ch. 19.2, Evaporative Loss From Floating-roof Tanks, 3rd Ed.

MPMS Ch. 19.3, Part H, Tank Seals and Fittings Certification—Administration, 2nd Ed.

MPMS Ch. 19.4, Recommended Practice for Speciation of Evaporative Losses, 3rd Ed.

MPMS Ch. 2.2D, Calibration of Upright Cylindrical Tanks Using the Internal Electro-optical Distance Ranging (EODR) Method (ANSI/API MPMS 2.2D-2010), 2nd Ed.

MPMS Ch. 21.1, Electronic Gas Measurement, 2nd Ed.

MPMS Ch. 22.2, Testing Protocols—Differential Pressure Flow Measurement Devices, 2nd Ed.

MPMS Ch. 22.4, Testing Protocols—Pressure, Differential Pressure, and Temperature Measuring Devices, 1st Ed.

MPMS Ch. 22.5, Testing Protocols—Electronic Flow Computer Calculations, 1st Ed.

MPMS Ch. 4.5, Master-Meter Provers, 3rd Ed.

MPMS Ch. 4.9.3, Methods of Calibration for Displacement and Volumetric Tank Provers, Part 3—Determination of the Volume of Displacement Provers by the Master Meter Method of Calibration, 1st Ed.

MPMS Ch. 4.9.4, Methods of Calibration for Displacement and Volumetric Tank Provers, Part 4—Determination of the Volume of Displacement and Tank Provers by the Gravimetric Method of Calibration, 1st Ed.

MPMS Ch. 8.1-SP, Manual Sampling of Petroleum and Petroleum Products—Spanish, 3rd Ed.

MPMS Ch. 9.1, Standard Test Method for Density, Relative Density (Specific Gravity), or API Gravity of Crude Petroleum and Liquid Petroleum Products by Hydrometer Method, 3rd Ed.

MPMS Ch. 9.2, Standard Test Method for Density or Relative Density of Light Hydrocarbons by Pressure Hydrometer, 3rd Ed.

MPMS Ch. 9.3, Standard Test Method for Density, Relative Density, and API Gravity of Crude Petroleum and Liquid Petroleum Products by Thermohydrometer Method, 3rd Ed.

TR 2570, Technical Report for the Determination of Water in Crude Oil and Petroleum Products Using On-Line Water Monitors, 1st Ed.

FOR FURTHER INFORMATION CONTACT: Paula Watkins, Standards Department, e-mail: (watkinsp@api.org)

Meetings/Conferences: The Spring Committee on Petroleum Measurement Meeting will be held in Dallas, Texas, March 15-18, 2010. The Fall Committee on Petroleum Measurement Meeting will be held in Denver, Colorado, October 4-8, 2010. Interested parties may visit the API Web site at http://www.api.org/meetings/ for more information regarding participation in these meetings.

Pipeline:

RP 1109, Marking Liquid Petroleum Pipeline Facilities, 4th Ed.

RP 1162, Public Awareness Programs for Pipeline Operators, 2nd Ed.

RP 1167, Alarm Management, 1st Ed.

RP 2200, Repairing Crude Oil, Liquefied Petroleum Gas and Product Pipelines, 4th Ed.

Std 1160, Managing System Integrity for Hazardous Liquid Pipelines, 2nd Ed.

FOR FURTHER INFORMATION CONTACT:

Ed Baniak, Standards Department, e-mail: (baniake@api.org).

Refining:

RP 500, Recommended Practice for Classification of Locations for Electrical Installations at Petroleum Facilities Classified as Class I, Division 1 and Division 2, 3rd Ed.

RP 505, Recommended Practice for Classification of Locations for Electrical Installations at Petroleum Facilities Classified as Class I, Zone 0, Zone 1 and Zone 2, 2nd Ed.

RP 520 Pt 2, Sizing, Selection, and Installation of Pressure-Relieving Devices in Refineries, Part II, Installation, 6th Ed.

RP 540, Electrical Installations in Petroleum Processing Plants, 5th Ed.

RP 578, Material Verification Program for New and Existing Alloy Piping Systems, 2nd Ed.

RP 621, Reconditioning of Metallic Gate, Globe, and Check Valves, 3rd Ed.

RP 688, Recommended Practice for Pulsation and Vibration Control in Reciprocating Compressor Systems, 1st Ed.

RP 934-A-A1, Addendum 1 to Materials and Fabrication Requirements for 2-1/4/3Cr Alloy Steel Heavy Wall Pressure Vessels for High Temperature, High Pressure Hydrogen Service, 2nd Ed.

RP 934-E, Materials and Fabrication of ¼;Cr-½;Mo Steel Pressure Vessels for Service above 825 °F (440 °C), 1st Ed.

Std 541, Form-Wound Squirrel-Cage Induction Motors 500 Horsepower and Larger, 5th Ed.

Std 607/ISO 10497, Testing of Valves-Fire Type-testing Requirements, 6th Ed.

Std 620-A2, Addendum 2 to Design and Construction of Large, Welded, Low-Pressure Storage Tanks, 11th Ed.

Std 653-A1, Addendum 1 to Tank Inspection, Repair, Alteration, and Reconstruction, 4th Ed.

Std 670, Machinery Protection Systems, 5th Ed.

Std 673, Centrifugal Fans for Petroleum, Chemical and Gas Industry Services, 3rd Ed.

Std 674, Positive Displacement Pumps-Reciprocating, 3rd Ed.

Std 754, Process Safety Performance Indicators for the Refining and Petrochemical Industries, 1st Ed.

Std 755, Fatigue Prevention Guidelines for the Refining and Petrochemical Industries, 1st Ed.

TR 934-B, Fabrication Considerations for Vanadium-Modified Cr-Mo Steel Heavy Wall Pressure Vessels, 1st Ed.

TR 934-D, Technical Report on the Materials and Fabrication Issues of 1¼Cr-½Mo and 1Cr-½Mo Steel Pressure Vessels, 1st Ed.

TR 938-C, Use of Duplex Stainless Steels in the Oil Refining Industry, 2nd Ed.

FOR FURTHER INFORMATION CONTACT: David Soffrin, Standards Department, e-mail:(soffrind@api.org).

Meetings/Conferences: The Spring Refining and Equipment Standards Meeting will be held in New Orleans, Louisiana, April 26-28, 2010. The Fall Refining and Equipment Standards Meeting will be held in Nashville, Tennessee, November 15-17, 2010. Interested parties may visit the API Web site at http://www.api.org/meetings/ for more information regarding participation in these meetings.

Safety and Fire Protection:

Publ 2218, Fireproofing Practices in Petroleum and Petrochemical Processing Plants, 3rd Ed.

RP 2350, Overfill Protection for Storage Tanks in Petroleum Facilities, 4th Ed.

FOR FURTHER INFORMATION CONTACT: David Soffrin, Standards Department, e-mail: (soffrind@api.org).

For Additional Information on the overall API standards program, Contact: David Miller, Standards Department, e-mail: miller@api.org.

Dated: February 5, 2010.
Marc G. Stanley,
Acting Deputy Director.

[FR Doc. 2010-3500 Filed 2-22-10; 8:45 am]

BILLING CODE 3510-13-P